DEPARTMENT OF COMMERCE

Patent and Trademark Office

37 CFR Parts 1 and 41

[Docket No. PTO-P-2023-0005]

RIN 0651-AD66

Reducing Patent Fees for Small Entities and Micro Entities Under the Unleashing American Innovators Act of 2022

Correction

In rule document 2023-05382, appearing on pages 17147-17159, in the issue of Wednesday, March 22, 2023, make the following corrections:

On page 17157, § 1.445 is corrected to read as set forth below.

§ 1.445 International application filing, processing and search fees. [Corrected]

* * * * *

(B) For an international application having a receipt date that is on or after October 2, 2020 and before December 29, 2022:

Table 2 to Paragraph (a)(1)(i)(B)

* * * * *

(C) * * *

Table 3 to Paragraph (a)(1)(i)(C)

* * * * *

(ii) * * *

Table 4 to Paragraph (a)(1)(ii)

* * * * *

(2) * * *

(i) For an international application having a receipt date that is on or after April 1, 2023:

* * * * *

[FR Doc. C1-2023-05382 Filed 3-31-23; 8:45 am]

BILLING CODE 0099-10-D